DEPARTMENT OF ENERGY

Federal Energy Regulatory Commission

Combined Notice of Filings #1

January 19, 2007.

Take notice that the Commission received the following exempt wholesale generator filings:

Docket Numbers: EG07-30-000.

Applicants: Whirlwind Energy, LLC.

Description: Whirlwind Energy, LLC submits an Exempt Wholesale Generator Notice of Self Certification.

Filed Date: 01/18/2007.

Accession Number: 20070118-5040.

Comment Date: 5 p.m. Eastern Time on Thursday, February 08, 2007.

Take notice that the Commission received the following electric rate filings:

Docket Numbers: ER01-316-023.

Applicants: ISO New England Inc.

Description: ISO New England submits its Index of Customers for the fourth quarter of 2006.

Filed Date: 01/16/2007.

Accession Number: 20070117-0227.

Comment Date: 5 p.m. Eastern Time on Tuesday, February 06, 2007.

Docket Numbers: ER03-647-009; ER01-3001-016.

Applicants: New York Independent System Operator, Inc.

Description: New York Independent System Operator, Inc. submits a compliance report pursuant to the Commission's order 11/28/06.

Filed Date: 01/16/2007.

Accession Number: 20070116-5148.

Comment Date: 5 p.m. Eastern Time on Tuesday, February 06, 2007.

Docket Numbers: ER05-636-006.

Applicants: Midwest Independent Transmission System Operator, Inc.

Description: Midwest Independent Transmission System Operator, Inc submits a Large Generator Interconnection Agreement w/Columbia Community Windpower, LLC and American Transmission Company.

Filed Date: 01/16/2007.

Accession Number: 20070118-0077.

Comment Date: 5 p.m. Eastern Time on Tuesday, February 06, 2007.

Docket Numbers: ER05-662-006.

Applicants: Midwest Independent Transmission System Operator, Inc.

Description: Midwest Independent Transmission System Operator, Inc submits a Large Generator Interconnection Agreement w/Darlington Wind Farm, LLC and American Transmission Company.

Filed Date: 01/16/2007.

Accession Number: 20070118-0079.

Comment Date: 5 p.m. Eastern Time on Tuesday, February 06, 2007.

Docket Numbers: ER05-864-005.

Applicants: Midwest Independent Transmission System Operator, Inc.

Description: Midwest Independent Transmission System Operator, Inc submits a Large Generator Interconnection Agreement w/Forward Energy, LLC and American Transmission Company.

Filed Date: 01/16/2007.

Accession Number: 20070118-0078.

Comment Date: 5 p.m. Eastern Time on Tuesday, February 06, 2007.

Docket Numbers: ER06-1457-002.

Applicants: Louisville Gas & Electric Company.

Description: E. ON U.S., LLC on behalf of Louisville Gas and Electric Co et al. submits amended Firm Point-to-Point transmission service agreements with Illinois Municipal Electric Agency pursuant to the Commission's 12/15/06 letter order.

Filed Date: 01/16/2007.

Accession Number: 20070118-0080.

Comment Date: 5 p.m. Eastern Time on Tuesday, February 06, 2007.

Docket Numbers: ER07-433-000.

Applicants: Interstate Power and Light Company; Great River Energy; Southern Minnesota Municipal Power Agency.

Description: Interstate Power and Light Company on behalf of Great River Energy et al. submits the Alliant Energy-West Joint Pricing Zone Revenue Allocation Agreement entered on 12/14/06.

Filed Date: 01/16/2007.

Accession Number: 20070119-0102.

Comment Date: 5 p.m. Eastern Time on Tuesday, February 06, 2007.

Docket Numbers: ER07-435-000.

Applicants: Northeast Utilities Service Company.

Description: Northeast Utilities Service Co on behalf of The Connecticut Light and Power et al submits Schedule 21-NU to Section II of the ISO New England Tariff for Transmission, Markets and Services.

Filed Date: 01/17/2007.

Accession Number: 20070118-0076.

Comment Date: 5 p.m. Eastern Time on Wednesday, February 07, 2007.

Docket Numbers: ER07-436-000.

Applicants: American Electric Power Service Company.

Description: American Electric Power Service Corp as agent for Ohio Power Co et al submits an Interconnection Agreement with American Transmission Systems, Inc etc.

Filed Date: 01/17/2007.

Accession Number: 20070118-0075.

Comment Date: 5 p.m. Eastern Time on Wednesday, February 07, 2007.

Docket Numbers: ER07-437-000.

Applicants: Xcel Energy Operating Companies.

Description: Xcel Energy Operating Companies submits Sixth Revised Sheet 48 et al to FERC Electric Tariff, Original Volume 3, to be effective 1/1/07.

Filed Date: 01/17/2007.

Accession Number: 20070118-0074.

Comment Date: 5 p.m. Eastern Time on Wednesday, February 07, 2007.

Docket Numbers: ER07-438-000.

Applicants: Carolina Power & Light Company.

Description: Carolina Power & Light Co submits an Intermediate Power Purchase Agreement with North Carolina Electric Membership Corporation.

Filed Date: 01/17/2007.

Accession Number: 20070118-0274.

Comment Date: 5 p.m. Eastern Time on Wednesday, February 07, 2007.

Docket Numbers: ER07-439-000.

Applicants: Idaho Power Company.

Description: Idaho Power Company submits its notice of cancellation of a Service Agreement No. 136, under its OATT w/Bonneville Power Administration—Power Business Line.

Filed Date: 01/17/2007.

Accession Number: 20070118-0272.

Comment Date: 5 p.m. Eastern Time on Wednesday, February 07, 2007.

Docket Numbers: ER07-440-000.

Applicants: PJM Interconnection, L.L.C.

Description: PJM Interconnection, LLC submits an executed interconnection service agreement and an executed construction service agreement with G.A.S.-ACCESS Pioneer Crossing Energy, LLC and Metropolitan Edison Co.

Filed Date: 01/17/2007.

Accession Number: 20070118-0271.

Comment Date: 5 p.m. Eastern Time on Wednesday, February 07, 2007.

Docket Numbers: ER07-441-000.

Applicants: PJM Interconnection, L.L.C.

Description: PJM Interconnection LLC submits an executed interconnection service agreement among PJM, Allegheny Ridge Wind Farm LLC et and a notice of cancellation for an interim interconnection service agreement.

Filed Date: 01/17/2007.

Accession Number: 20070119-0203.

Comment Date: 5 p.m. Eastern Time on Wednesday, February 07, 2007.

Docket Numbers: ER07-442-000.

Applicants: Southern Company Services, Inc.

Description: Southern Company Services Inc, agent for Alabama Power Company et al submits a rollover network integration transmission service agreement under the OATT of FERC Electric Tariff, Fourth Revised Volume 5.

Filed Date: 01/18/2007.

Accession Number: 20070119-0204.

Comment Date: 5 p.m. Eastern Time on Thursday, February 08, 2007.

Docket Numbers: ER07-444-000.

Applicants: ISO New England Inc.; New England Power Pool.

Description: ISO New England Inc et al jointly submits revised tariff sheets reflecting a proposed amendment to the ISO New England Information Policy.

Filed Date: 01/18/2007.

Accession Number: 20070119-0206.

Comment Date: 5 p.m. Eastern Time on Thursday, February 08, 2007.

Any person desiring to intervene or to protest in any of the above proceedings must file in accordance with Rules 211 and 214 of the Commission's Rules of Practice and Procedure (18 CFR 385.211 and 385.214) on or before 5 p.m. Eastern time on the specified Comment Date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-1168 Filed 1-25-07; 8:45 am]

BILLING CODE 6717-01-P